DEPARTMENT OF THE INTERIOR

National Park Service

Denali National Park and Preserve Draft Backcountry Management Plan, General Management Plan Amendment, and Environmental Impact Statement

AGENCY: National Park Service, Interior.

ACTION: Public comment period extension for Denali National Park and Preserve Draft Backcountry Management Plan, General Management Plan Amendment, and Environmental Impact Statement.

SUMMARY: The National Park Service announces that the public comment period for the Denali National Park and Preserve Draft Backcountry Management Plan, General Management Plan Amendment, and Environmental Impact Statement has been extended to May 30, 2003.

DATES: Comments on the general management plan amendment and environmental impact statement will be accepted through May 30, 2003.

ADDRESSES: Comments on the proposed general management plan amendment and environmental impact statement should be submitted to the: Superintendent, Denali National Park and Preserve, P.O. Box 9, Denali Park, Alaska, 99755.

FOR FURTHER INFORMATION CONTACT: Copies of the draft plan are available by writing the Superintendent, Denali National Park and Preserve, P.O. Box 9, Denali Park, Alaska, 99755, or by calling (907) 683-2294. The plan is published in print, CD-ROM, and on the park's web site at: http://www.nps.gov/dena/home/planning/plans/bcplan/bcbrief.html.

A printed Executive Summary is also available.

Victor Knox,
Acting Regional Director, Alaska.

[FR Doc. 03-10905 Filed 5-1-03; 8:45 am]

BILLING CODE 4310-70-P